Proclamation 7286 of April 1, 2000

Census Day, 2000

By the President of the United States of America

A Proclamation

Every 10 years, as mandated by our Constitution, all persons living in the United States are called upon to participate in the census. As the foremost method of gathering information about our Nation, the census plays a crucial role in helping us to maintain our democratic form of government.

An accurate census helps to ensure that the rights and needs of every person are recorded and recognized as we shape public policies, programs, and services. Too often in the past, children, minorities, and low-income individuals have not been counted and, as a result, have not been fully and fairly served. Census data are also used to determine the number of seats each State is allocated in the U.S. House of Representatives, and State and local governments depend upon these data to draw legislative districts that accurately represent their residents.

The census also serves as the basis for many public funding and private investment decisions. Census results play a part in determining the portion each State receives of more than $185 billion in funds distributed by the Federal Government each year. State and local public officials use census data to decide where to build public facilities such as schools, roads, hospitals, and libraries. Census data also are a valuable resource for businesses that are trying to identify where to build stores, office buildings, or shopping centers.

The census is unique. It reaches every population group, from America's long-time residents to its most recent immigrants, and every age group from newborns to centenarians. The census touches every social class and every racial and ethnic group. The census is truly a democratic process in which we all can participate.

Census 2000 offers each of us an important opportunity to shape the future of our Nation. By taking part, we help ensure the well-being of our families and our communities, and we fulfill one of our fundamental civic duties. The U.S. Census Bureau has taken unprecedented steps to ensure full participation in this first census of the new millennium. At the same time, the Bureau will continue its long tradition of protecting the personal information of America's citizens, and no other Government agency will be able to see any individual or family census form. I strongly urge every man and woman living in the United States to fill out and return his or her census form or to cooperate with census takers who will help them do so.

NOW, THEREFORE, I, WILLIAM J. CLINTON, President of the United States of America, by virtue of the authority vested in me by the Constitution and laws of the United States, do hereby proclaim April 1, 2000, as Census Day. I call upon all the people of the United States to observe this day with ceremonies, activities, and programs that raise awareness of the importance of participating in Census 2000.

IN WITNESS WHEREOF, I have hereunto set my hand this first day of April, in the year of our Lord two thousand, and of the Independence of the United States of America the two hundred and twenty-fourth.

wj

[FR Doc. 00-8571

Filed 4-4-00; 8:45 am]

Billing code 3195-01-P